DEPARTMENT OF COMMERCE

National Institute of Standards and Technology

Workshop on Computational Models for Large Outdoor Fires

AGENCY: National Institute of Standards and Technology, Commerce.

ACTION: Notice of public meeting.

SUMMARY: NIST announces a workshop on Computational Models for Large Outdoor Fires to be held on Monday, March 04, 2019 to Tuesday, March 05, 2019. The workshop will be open to the public with portions available via web broadcasting. At this workshop, the attendees will discuss the current state of measurement science gaps in implementing computational tools to model large scale outdoor fires, such as those found in the Wildland and Wildland-Urban Interface (WUI) communities.

DATES: The workshop on Computational Models for Large Outdoor Fires will be held on Monday, March 04, 2019 from 9:00 a.m. until 5:00 p.m. Eastern Time, and Tuesday, March 05, 2019 from 9:00 a.m. until 4:30 p.m. Eastern Time. Please arrive at the NIST campus by 8:30 a.m. Eastern Time on both days. Attendees must register by 5:00 p.m. Eastern Time on Monday, February 25, 2019. Please note that the exact times are subject to change.

ADDRESSES: The workshop will be held in the West Square room of Building 101 at the National Institute of Standards and Technology, 100 Bureau Drive, Gaithersburg, Maryland 20899. For registration instructions refer to the meeting website: https://www.nist.gov/news-events/events/2019/03/computational-models-large-outdoor-fires-workshop.

FOR FURTHER INFORMATION CONTACT: Nelson Bryner, Engineering Laboratory, NIST, 100 Bureau Drive, Stop 8662, Gaithersburg, MD 20899-8662, Telephone: (301) 975-6868, Email address: nelson.bryner@nist.gov.

SUPPLEMENTARY INFORMATION: NIST announces a workshop on Computational Models for Large Outdoor Fires to be held on Monday, March 04, 2019 to Tuesday, March 05, 2019. The workshop will be open to the public and portions will be available via web broadcasting. At this workshop, the attendees will discuss the current state of measurement science gaps in implementing computational tools to model large scale outdoor fires, such as those found in the Wildland and Wildland-Urban Interface (WUI) communities.

The workshop agenda is expected to include the following discussion items:

• High-performance computing applied to outdoor fire modeling,

• incorporating micro- and macro-scale weather data,

• incorporating topography and terrain features,

• ember ignition physics,

• winddriven fire spread,

• large-scale prescribed burn experiments, and

• wind-tunnel experiments.

Note that the agenda may change without notice. Seating will be available for the public on a first-come, first-served basis and will be limited to 40 attendees. Portions of the workshop will be available via web broadcasting. Pre-registration is required to attend this workshop both in person and online. The final agenda, web broadcasting instructions, and other administrative information will be posted on the meeting website: https://www.nist.gov/news-events/events/2019/03/computational-models-large-outdoor-fires-workshop.

All visitors to the NIST site are required to pre-register to be admitted. Please submit your name, time of arrival, email address and phone number to Karen Startsman by 5:00 p.m. Eastern Time, February 26, 2019. Non-U.S. citizens must submit additional information; please contact Karen Startsman. Ms. Startman's email address is Karen.Startsman@nist.gov and her phone number is 301-975-6602. For participants attending in person, please note that federal agencies, including NIST, can only accept a state-issued driver's license or identification card for access to federal facilities if such license or identification card is issued by a state that is compliant with the REAL ID Act of 2005 (Pub. L. 109-13), or by a state that has an extension for REAL ID compliance. NIST currently accepts other forms of federal-issued identification in lieu of a state-issued driver's license. For detailed information please contact Karen Startsman at Karen.Startsman@nist.gov or visit: http://nist.gov/public_affairs/visitor/.

Authority: 15 U.S.C. 278f.

Kevin A. Kimball,
Chief of Staff.

[FR Doc. 2018-26175 Filed 11-30-18; 8:45 am]

BILLING CODE 3510-13-P